DEPARTMENT OF THE DEFENSE

Department of the Army

Privacy Act of 1974; System of Records

AGENCY: Department of the Army, DoD.

ACTION: Notice to alter a system of records.

SUMMARY: The Department of the Army is proposing to alter a system of records notice in its existing inventory of records systems subject to the Privacy Act of 1974, (5 U.S.C. 552a), as amended.

DATES: This proposed action will be effective without further notice on March 28, 2005, unless comments are received which result in a contrary determination.

ADDRESSES: Department of the Army, Freedom of Information Privacy Division, U.S. Army Records Management and Declassification Agency, Attn: AHRC-PDD-FPZ, 7701 Telegraph Road, Casey Building, Suite 144, Alexandria, VA 22325-3905.

FOR FURTHER INFORMATION CONTACT: Ms. Janice Thornton at (703) 428-6497.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on February 2, 2005, to the House Committee on Government Reform, the Senate Committee on Homeland Security and Governmental Affairs, and the Office of Management and Budget (OMB) pursuant to paragraph 4c of Appendix I to OMB Circular No. A-130, ‘Federal Agency Responsibilities for Maintaining Records About Individuals,' dated February 8, 1996 (February 20, 1996, 61 FR 6427).

Dated: February 12, 2005.
Jeanette Owings-Ballard,
OSD Federal Register Liaison Officer, Department of Defense.

A0601-270 USMEPCOM

System Name:

U.S. Military Entrance Processing Reporting System (March 29, 2000, 65 FR 16568).

Changes:

System identifier:

Delete entry and replace with “A0601-270 USMEPCOM DoD”.

System name:

Delete entry and replace with “U.S. Military Processing Command Integrated Resources System (USMIRS).”

* * * * *

Categories of individuals covered by the system:

Delete entry and replace with “All individuals who report to a mobile examining team site or MEPS to be aptitudinally tested and/or medically examined to determine their fitness for entry into one of the Armed Services”

Categories of records in the system:

Delete entry and replace with “Various personal data, such as individual's name, Social Security Number, Alien Registration number, date and place of birth, home address and telephone number, results of aptitude tests, physical examination, background screening through the use of fingerprinting, and relevant documentation concerning individual's acceptance/rejection for military service.”

Authority for maintenance of the system:

Delete entry and replace with “10 U.S.C. 3013, Secretary of the Army, 10 U.S.C. 8013, Secretary of the Air Force, 10 U.S.C. 5013, Secretary of the Navy; DoD Directive 1145.2, United States Military Entrance Processing Command; Army Regulation 601-270/Air Force Regulation 33-7/Marine Corps Order P1100.75A, Military Entrance Processing Station (MEPS); MEPCOM Regulation 680-3, U.S. Military Processing Command Integrated Resources System (USMIRS); and E.O. 9397 (SSN).”

Purpose(s):

Delete entry and replace with “To determine qualifications of applicants for the Armed Forces through aptitude testing, medical examination, identity verification, background screening, and administrative processing. Records will also be used to determine patterns and trends in the military population, and for statistical analyses.”

* * * * *

Storage:

Delete entry and replace with “Paper records in file folders and in electronic storage media.”

Retrievability:

Delete entry and replace with “Individual's name, Social Security Number, and/or biometric images.”

* * * * *

Retention and disposal:

Delete from entry “records will be maintained until all requirement of Pub. L. 104-201 are met and until a records disposition is obtained from the National Archives and Records Administration”.

* * * * *

A0601-270 USMEPCOM DoD

System name:

U.S. Military Processing Command Integrated Resources System (USMIRS).

System location:

Primary location: United States Military Entrance Processing Command, 2834 Green Bay Road, North Chicago, IL 60064-3094. Segments exist at 65 military entrance processing stations in the continental United States, Alaska, Puerto Rico, and Hawaii. Official mailing addresses are published as an appendix to the Army's compilation of record system notices.

Categories of individuals covered by the system:

All individuals who report to a mobile examining team site or MEPS to be aptitudinally tested and/or medically examined to determine their fitness for entry into one of the Armed Services.

Categories of records in the system:

Various personnel data, such as individual's name, Social Security Number, date and place of birth, home address and telephone number, results of aptitude tests, physical examination, and relevant documentation concerning individual's acceptance/rejection for military service.

Various personal data, such as individual's name, Social Security Number, Alien Registration number, date and place of birth, home address and telephone number, results of aptitude tests, physical examination, background screening through the use of fingerprinting, and relevant documentation concerning individual's acceptance/rejection for military service.''

Authority for maintenance of the system:

10 U.S.C. 3013, Secretary of the Army, 10 U.S.C. 8013, Secretary of the Air Force, 10 U.S.C. 5013, Secretary of the Navy; DoD Directive 1145.2, United States Military Entrance Processing Command; Army Regulation 601-270/Air Force Regulation 33-7/Marine Corps Order P1100.75A, Military Entrance Processing Station (MEPS); MEPCOM Regulation 680-3, U.S. Military Processing Command Integrated Resources System (USMIRS); and E.O. 9397 (SSN).

Purpose(s):

To determine qualifications of applicants for the Armed Forces through aptitude testing, medical examination, identity verification, background screening, and administrative processing. Records will also be used to determine patterns and trends in the military population, and for statistical analyses.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information is disclosed to the Selective Service System (SSS) to update the SSS registrant database.

Information may also be disclosed to local and State Government agencies for compliance with laws and regulations governing control of communicable diseases.

The DoD ‘Blanket Routine Uses’ set forth at the beginning of the Army's compilation of systems of records notices also apply to this system.

Policies and practices for storing, retrieving, accessing, retaining, and disposing of records in the system:

Storage:

Paper records in file folders and in electronic storage media.

Retrievability:

Individual's name, Social Security Number, and/or biometric images.

Safeguards:

All data are retained in locked room/compartments with access limited to personnel designated as having official need therefore. Access to computerized data is by use of a valid user ID and password code assigned to the individual video display terminal operator.

Retention and disposal:

Each military entrance processing station retains a copy of reporting system source documents for each enlistee for 90 days after shipment. For all other applicants, each station retains, if applicable, a copy of the Report of Medical Examination with supporting documentation, the Report of Medical History, and any other reporting source documents, for a period not to exceed 2 years, after which they are destroyed. Originals or copies of documents are filed permanently in Official Personnel Files for acceptable applicants and transferred to the gaining Armed Force. Information relating to the individual's who become seriously ill or are injured while at MEPS, or were found disqualified for a condition considered dangerous to the individual's health if left untreated.

System manager(s) and address:

Commander, U.S. Military Entrance Processing Command, 2834 Green Bay Road, North Chicago, IL 60064-3094.

Notification procedure:

Individuals seeking to determine if information about themselves is contained in this record system should address written inquiries to the Commander, U.S. Military Entrance Processing Commander, U.S. Military Entrance Processing Command, 2834 Green Bay Road, North Chicago, IL 60064-3094.

Individual should provide the full name, Social Security Number, and military status or other information verifiable from the record itself.

Record access procedures:

Individuals seeking access to records about themselves contained in this record system should address written inquiries to the Commander, U.S. Military Entrance Processing Command, 2834 Green Bay Road, North Chicago, IL 60064-3094.

Individual should provide the full name, Social Security Number, and military status or other information verifiable from the record itself.

On personal visits, individual should provide acceptable identification such as valid driver's license, employer identification card, building pass, etc.

Contesting record procedures:

The Army's rules for accessing records, and for contesting contents and appealing initial agency determinations are published in the Department of the Army Regulation 340-21; 32 CFR part 505; or may be obtained from the system manager.

Record source categories:

From the individual, physicians, results of tests, Federal/State/local law enforcement activities/agencies.

Exemptions claimed for the system:

None.

[FR Doc. 05-3659 Filed 2-29-05; 8:45 am]

BILLING CODE 5001-06-M